DEPARTMENT OF EDUCATION

Submission for OMB Review; Comment Request

AGENCY: Department of Education.

ACTION: Correction Notice.

SUMMARY: On July 26, 2007, the Department of Education published a comment period notice in the Federal Register (Page 41065, Column 3) for the information collection, “LINCS Professional Development Mapping Survey”. The link number has been changed from 3344 to 3420.

The Acting Leader, Information Management Case Services Team, Regulatory Information Management Services, Office of Management, hereby issues a correction notice as required by the Paperwork Reduction Act of 1995.

Dated: July 31, 2007.
James Hyler,
Acting Leader, Information Management Case Services Team, Regulatory Information Management Services, Office of Management.

[FR Doc. E7-15260 Filed 8-6-07; 8:45 am]

BILLING CODE 4000-01-P